ENVIRONMENTAL PROTECTION AGENCY

40 CFR Part 261

[EPA-R06-RCRA-2022-0653; FRL-10104-03-R6]

Hazardous Waste Management System; Identification and Listing of Hazardous Waste; Final Rule; Correction

AGENCY: Environmental Protection Agency (EPA).

ACTION: Correcting amendment.

SUMMARY: The Environmental Protection Agency (EPA or the Agency) is correcting a typographical error in a final rule published in the Federal Register on June 17, 2025. The final rule granted a petition submitted by WRB Refining in Borger, Texas to exclude (or “delist”) 7,000 cubic yards of F037 (petroleum refinery sludge) solids to be removed from their stormwater storage tanks for a one-time delisting.

DATES: Effective on September 11, 2025.

ADDRESSES: The EPA has established a docket for this action under Docket ID No. EPA-R06-RCRA-2022-0653. All documents in this docket are listed on the https://www.regulations.gov website. Although listed in the index, some information is not publicly available, e.g., Confidential Business Information (CBI) or other information whose disclosures is restricted by statute. Certain other material, such as copyrighted material, is not placed on the internet and will be publicly available only in hard copy form. Publicly available docket materials are available electronically through https://www.regulations.gov.

FOR FURTHER INFORMATION CONTACT: Alima Patterson, RCRA Permits & Solid Waste Section (LCR-RP) Land, Chemical and Redevelopment Division, Environmental Protection Agency Region 6, 1201 Elm Street, Suite 500, Dallas, TX 75270, telephone number: (214) 665-8533; email address: patterson.alima@epa.gov.

SUPPLEMENTARY INFORMATION: On June 17, 2025 (90 FR 25502), the EPA published a final rule to grant a delisting petition submitted by WRB Refining in Borger, Texas to exclude (or “delist”) 7,000 cubic yards of F037 (petroleum refinery sludge) solids to be removed from their stormwater storage tanks for a one-time delisting. After publication the Agency identified a typographical error in the amendatory instruction. Specifically, amendatory instruction 2. directed that the entry for “WRB Refinery LP” be added in alphabetical order to table 1 of appendix IX. However, the EPA intended amendatory instruction 2. to read “Amend table 1 of appendix IX by adding the entry “WRB Refining LP” in alphabetical order to read as follows:” This document corrects amendatory instruction 2. by directing that “WRB Refining LP” be added to table 1 of appendix IX as intended.

Lists of Subjects in 40 CFR Part 261

Environmental protection, Hazardous waste, Recycling, Reporting and recordkeeping requirements.

Eunice A. Varughese,
Director, Land, Chemicals and Redevelopment Division, U.S. EPA Region 6.

Accordingly, 40 CFR part 261 is corrected by making the following correcting amendment:

PART 261—IDENTIFICATION AND LISTING OF HAZARDOUS WASTE

1. The authority citation for part 261 continues to read as follows:

Authority: 42 U.S.C. 6905, 6912(a), 6921, 6922, 6924(y) and 6938.

2. Amend table 1 of appendix IX by adding the entry “WRB Refining LP” in alphabetical order to read as follows:

Appendix IX to Part 261—Wastes Excluded Under §§ 260.20 and 260.22

Table 1—Wastes Excluded From Non-Specific Sources
Facility | Address | Waste description
* * * * * * *
WRB Refining LP | Borger, TX | Stormwater Solids (F037) generated at a maximum generation of 7,000 cubic yards.
|  | (1) Delisting Levels: All leachable constituent concentrations must not exceed the following levels. The petitioner must use the method specified in 40 CFR 261.24 to measure constituents in the waste leachate (mg/L). Stormwater Solids Leachate: Acenaphthene-219; Anthracene-534; Antimony-2.52; Arsenic-0.266; Barium-7.13; Benz(a) anthracene-10.5; Benzo(a)pyrene-3,960; Benzene-1.59; 2-Cadmium-2.23; Carbon disulfide-1,150; Chromium-1; Chrysene-1,050; Cobalt-5.56; Di-n-butyl-phthalate-507; Ethylbenzene-16.2; Fluoranthrene-50.7; Fluorene-101; Indeno(1,2,3-cd)pyrene-371000000000; Lead-14.7; Mercury-1.34; Naphthalene-1.95; Nickel-279; Pyrene-91.7; Selenium-18.10; Silver-179; Toluene-311; Vanadium-85.6; Xylenes, Total-177; Zinc-4,060.
|  | (2) Waste Holding and Handling: (A) All stormwater solids from tank clean outs must be tested to assure they have met the concentrations described in paragraph (1). Solids that do not meet the concentrations must be disposed of as hazardous waste.
|  | (B) Levels of constituents measured in the samples of the solids that do not exceed the levels set forth in paragraph (1) are non-hazardous. WRB Refining can manage and dispose the non-hazardous stormwater solids according to all applicable solid waste regulations.
|  | (C) WRB Refining must maintain a record of the actual volume of the stormwater solids to be disposed in the Subtitle D or on-site landfill according to the requirements in paragraph (4).
|  | (3) Changes in Operating Conditions: If WRB Refining significantly changes the process described in its petition or starts any processes that may or could affect the composition or type of waste generated as established under paragraph (1) (by illustration, but not limitation, changes in equipment or operating conditions of the treatment process), they must notify the EPA in writing; they may no longer handle the wastes generated from the new process as nonhazardous until the test results of the wastes meet the delisting levels set in paragraph (1) and they have received written approval to do so from the EPA.
|  | (3) (4) Data Submittals: WRB Refining must submit the information described below. If WRB Refining fails to submit the required data within the specified time or maintain the required records on-site for the specified time, the EPA, at its discretion, will consider this sufficient basis to reopen the exclusion as described in paragraph (5). WRB Refining must:
|  | (A) Submit the data obtained through paragraph (3) to the Chief, RCRA Permits & Solid Waste Section, Mail Code, (6LCR-RP) US EPA Region 6, 1201 Elm Street, Suite 500, Dallas, TX 75270 within the time specified. Data may be submitted via email to the technical contact for the delisting program.
|  | (B) Compile records of operating conditions and analytical data from paragraph (3), summarized, and maintained on-site for a minimum of five years.
|  | (C) Furnish these records and data when the EPA or the State of Texas request them for inspection.
|  | (D) Send, along with all data, a signed copy of the following certification statement, to attest to the truth and accuracy of the data submitted: “Under civil and criminal penalty of law for the making or submission of false or fraudulent statements or representations (pursuant to the applicable provisions of the Federal Code, which include, but may not be limited to, 18 U.S.C. 1001 and 42 U.S.C. 6928), I certify that the information contained in or accompanying this document is true, accurate and complete. As to the (those) identified section(s) of this document for which I cannot personally verify its (their) truth and accuracy, I certify as the company official having supervisory responsibility for the persons who, acting under my direct instructions, made the verification that this information is true, accurate and complete. If any of this information is determined by the EPA in its sole discretion to be false, inaccurate or incomplete, and upon conveyance of this fact to the company, I recognize and agree that this exclusion of waste will be void as if it never had effect or to the extent directed by the EPA and that the company will be liable for any actions taken in contravention of the company's RCRA and CERCLA obligations premised upon the company's reliance on the void exclusion.”
|  | (5) Reopener:
|  | (A) If, any time after disposal of the delisted waste, WRB Refining possesses or is otherwise made aware of any environmental data (including but not limited to leachate data or ground water monitoring data) or any other data relevant to the delisted waste indicating that any constituent identified for the delisting verification testing is at level higher than the delisting level allowed by the Division Director in granting the petition, then the facility must report the data, in writing, to the Division Director within 10 days of first possessing or being made aware of that data.
|  | (B) If the verification testing of the waste does not meet the delisting requirements in paragraph 1, WRB Refining must report the data, in writing, to the Division Director within 10 days of first possessing or being made aware of that data.
|  | (C) If WRB Refining fails to submit the information described in paragraphs (4), (5)(A) or (5)(B) or if any other information is received from any source, the Division Director will make a preliminary determination as to whether the reported information requires Agency action to protect human health or the environment. Further action may include suspending, or revoking the exclusion, or other appropriate response necessary to protect human health and the environment.
|  | (D) If the Division Director determines that the reported information does require Agency action, the Division Director will notify the facility, in writing, of the actions the Division Director believes are necessary to protect human health and the environment. The notice shall include a statement of the proposed action and a statement providing the facility with an opportunity to present information as to why the proposed Agency action is not necessary. The facility shall have 10 days from the date of the Division Director's notice to present such information.
|  | (E) Following the receipt of information from the facility described in paragraph (5)(D) or (if no information is presented under paragraph (5)(D)) the initial receipt of information described in paragraphs (4), (5)(A) or (5)(B), the Division Director will issue a final written determination describing the Agency actions that are necessary to protect human health or the environment. Any required action described in the Division Director's determination shall become effective immediately, unless the Division Director provides otherwise.
|  | (5) (6) Notification Requirements: WRB Refining must do the following before transporting the delisted waste: Failure to provide this notification will result in a violation of the delisting petition and a possible revocation of the decision.
|  | (A) Provide a written notification to any State Regulatory Agency to which, or through which they will transport the delisted waste described above for disposal, 60 days before beginning such activities. If WRB Refining transports the excluded waste to or manages the waste in any State with delisting authorization, WRB Refining must obtain delisting authorization from that State before it can manage the waste as nonhazardous in the State.
|  | (B) Update the one-time written notification if they ship the delisted waste to a different disposal facility.
|  | (C) Failure to provide the notification will result in a violation of the delisting variance and a possible revocation of the exclusion.

[FR Doc. 2025-17524 Filed 9-10-25; 8:45 am]

BILLING CODE 6560-50-P